FEDERAL COMMUNICATIONS COMMISSION

47 CFR Part 73

[DA 00-849, MM Docket No. 00-66, RM-9842]

Radio Broadcasting Services; Des Moines, NM

AGENCY: Federal Communications Commission.

ACTION: Proposed rule.

SUMMARY: The Commission requests comments on a petition filed by Sierra Grande Broadcasting seeking the allotment of Channel 287C to Des Moines, NM, as the community's first local aural service. Petitioner is requested to provide demographic information showing that Des Moines qualifies as a “community” for allotment purposes. Channel 287C can be allotted to Des Moines in compliance with the Commission's minimum distance separation requirements without the imposition of a site restriction, at coordinates 36-45-48 NL; 103-50-12 WL.

DATES: Comments must be filed on or before June 5, 2000, and reply comments on or before June 20, 2000.

ADDRESSES: Federal Communications Commission, 445 12th Street, S.W., Room TW-A325, Washington, DC 20554. In addition to filing comments with the FCC, interested parties should serve the petitioner, or its counsel or consultant, as follows: Willison H. Gormly, Owner and Electrical Engineer, Sierra Grande Broadcasting, P.O. Box 51, Des Moines, New Mexico 88418-0051.

FOR FURTHER INFORMATION CONTACT: Leslie K. Shapiro, Mass Media Bureau, (202) 418-2180.

SUPPLEMENTARY INFORMATION: This is a synopsis of the Commission's Notice of Proposed Rule Making, MM Docket No. 00-66, adopted April 5, 2000, and released April 14, 2000. The full text of this Commission decision is available for inspection and copying during normal business hours in the FCC Reference Center, 445 12th Street, SW, Washington, DC. The complete text of this decision may also be purchased from the Commission's copy contractor, International Transcription Services, Inc., (202) 857-3800, 1231 20th Street, NW, Washington, DC 20036.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio broadcasting.

Federal Communications Commission.
John A. Karousos,
Chief, Allocations Branch, Policy and Rules Division, Mass Media Bureau.

[FR Doc. 00-10925 Filed 5-2-00; 8:45 am]

BILLING CODE 6712-01-P